DEPARTMENT OF DEFENSE

Office of the Secretary

[Transmittal Nos. 11-19]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-19 with attached transmittal and policy justification.

Dated: September 23, 2011.
Aaron Siegel,
Alternate OSD Federal Register Liaison Officer, Department of Defense.

BILLING CODE 5001-06-P

BILLING CODE 5001-06-C

Transmittal No. 11-19

Notice of Proposed Issuance of Letter of Offer Pursuant to Section 36(b)(1) of the Arms Export Control Act

(i) Prospective Purchaser: Taipei Economic and Cultural Representative Office in the United States pursuant to P.L. 96-8

(ii) Total Estimated Value:

Major Defense Equipment * | $0 million.
Other | 500 million.
Total | 500 million.
* As defined in Section 47(6) of the Arms Export Control Act.

(iii) Description and Quantity or Quantities of Articles or Services under Consideration for Purchase: continuation of a pilot training program and logistics support for F-16 aircraft at Luke Air Force Base, Arizona to include flight training, supply and maintenance support, spare and repair parts, support equipment, program management, publications, documentation, personnel training and training equipment, fuel and fueling services, and other related program requirements necessary to sustain a long-term CONUS training program.

(iv) Military Department: Air Force (NHE).

(v) Prior Related Cases, if any: FMS Case NHA-$ 84 million-18Dec92. FMS Case NHC-$261 million-01Jul99. FMS Case NHD-$280 million-29Nov07.

(vi) Sales Commission, Fee, etc., Paid, Offered, or Agreed to be Paid: None.

(vii) Sensitivity of Technology Contained in the Defense Article or Defense Services Proposed to be Sold: None.

(viii) Date Report Delivered to Congress: 21 Sep 2011.

Policy Justification

Taipei Economic and Cultural Representative Office in the United States—Pilot Training Program

The Taipei Economic and Cultural Representative Office in the United States has requested a possible sale for the continuation of a pilot training program and logistics support for F-16 aircraft at Luke Air Force Base, Arizona to include flight training, supply and maintenance support, spare and repair parts, support equipment, program management, publications, documentation, personnel training and training equipment, fuel and fueling services, and other related program requirements necessary to sustain a long-term CONUS training program. The estimated cost is $500 million.

This sale is consistent with United States policy and Public Law 96-8.

The recipient is one of the major political and economic powers in Asia and the Western Pacific and a key partner of the United States in ensuring peace and stability in that region. It is vital to the U.S. national interest to assist the recipient in developing and maintaining a strong and ready self-defense capability, which will contribute to an acceptable military balance in the area. This proposed sale is consistent with those objectives.

The recipient and the U.S. Air Force (USAF) will have the opportunity to fly together, which will support disaster relief missions, non-combatant evacuation operations, and other contingency situations. These services and equipment are used in the continuing pilot training program at Luke Air Force Base, Arizona. This program enables the recipient to develop mission ready and experienced pilots through CONUS training. The training provides a “capstone” course that takes experienced pilots and significantly improves their tactical proficiency. Training is a key component of combat effectiveness, and recipient pilots who have graduated from the existing program have performed brilliantly.

The proposed sale of pilot training and support will not alter the basic military balance in the region.

Implementation of this sale will not require the assignment of any U.S. Government or contractor representatives to the recipient. The USAF will provide instruction, flight operations, and maintenance support and facilities. Approximately 90 U.S. contractors will provide aircraft maintenance and logistics support for the F-16 aircraft at Luke Air Force Base, Arizona.

The prime contractor for the logistics support will be L-3 Communications Corporation in Greenville, Texas. There are no known offset agreements proposed in connection with this potential sale.

There will be no adverse impact on U.S. defense readiness as a result of this proposed sale.

[FR Doc. 2011-25017 Filed 9-28-11; 8:45 am]

BILLING CODE 5001-06-P